DEPARTMENT OF LABOR

Employment and Training Administration

[TA-W-72,735; TA-W-72,735A]

Colfor Manufacturing, Inc., an AAM Company, Minerva, OH; Colfor Manufacturing, Inc., an AAM Company, Salem, OH; Amended Certification Regarding Eligibility To Apply for Worker Adjustment Assistance

In accordance with Section 223 of the Trade Act of 1974, as amended (“Act”), 19 U.S.C. 2273, the Department of Labor issued a Certification of Eligibility to Apply for Worker Adjustment Assistance on March 17, 2010, applicable to workers of Colfor Manufacturing, Inc., Minerva, Ohio. The workers are engaged in activities related to the production of transmission and power train parts. The notice was published in the Federal Register on April 23, 2010 (75 FR 21354).

At the request of the company, the Department reviewed the certification for workers of the subject firm.

The Salem, Ohio location operated in conjunction with the Minerva, Ohio facility, both locations experienced declining sales, worker separations and were impacted by a loss of business at the Minerva, Ohio manufacturing facility of the subject firm. Information also shows that Colfor Manufacturing, Inc. is a wholly owned subsidiary of AAM Company.

Accordingly, the Department is amending this certification to include workers of the Salem, Ohio location of the subject firm and to show the correct name of the subject firm in its entirety should read Colfor Manufacturing, Inc., an AAM Company.

The amended notice applicable to TA-W-72,735 is hereby issued as follows:

All workers of Colfor Manufacturing, Inc., an AAM Company, Minerva, Ohio (TA-W-72,735), and Colfor Manufacturing, Inc., an AAM Company, Inc., Salem, Ohio (TA-W-72,735A), who became totally or partially separated from employment on or after October 28, 2008, through March 17, 2012, and all workers in the group threatened with total or partial separation from employment on date of certification through two years from the date of certification, are eligible to apply for adjustment assistance under Chapter 2 of Title II of the Trade Act of 1974, as amended.

Signed in Washington, DC, this 4th day of April 2011.
Del Min Amy Chen,
Certifying Officer, Office of Trade Adjustment Assistance.

[FR Doc. 2011-8977 Filed 4-13-11; 8:45 am]

BILLING CODE 4510-FN-P